DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground ‸Elevation in meters (MSL) Modified | Communities affected
Madison County, Alabama, and Incorporated Areas
Docket No.: FEMA-B-1057
Aldridge Creek | Approximately 0.4 mile upstream of Green Cove Road | +576 | City of Huntsville.
| Approximately 75 feet downstream of Drake Avenue | +682
* National Geodetic Vertical Datum.
+ North American Vertical Datum.
# Depth in feet above ground.
‸ Mean Sea Level, rounded to the nearest 0.1 meter.
ADDRESSES
City of Huntsville
Maps are available for inspection at 308 Fountain Circle Southwest, Huntsville, AL 35804.
Sebastian County, Arkansas, and Incorporated Areas
Docket No.: FEMA-B-1035
Adamson Creek | At South Coker Street | +494 | City of Greenwood, Unincorporated Areas of Sebastian County.
| Approximately 2,000 feet upstream of U.S. Route 7 | +533
Heartsill Creek | At West Denver Street | +510 | City of Greenwood, Unincorporated Areas of Sebastian County.
| Approximately 180 feet downstream of Hester Cut Road | +575
Heartsill Creek Tributary 1 | At the confluence with Heartsill Creek | +525 | City of Greenwood.
| Approximately 700 feet upstream of Meadow Bridge Drive intersection | +547
Hester Creek | Approximately 280 feet upstream of West Center Street | +510 | City of Greenwood, Unincorporated Areas of Sebastian County.
| Approximately 600 feet upstream of Hester Cut Road | +547
Little Vache Grasse Creek | At the confluence with Unnamed Stream | +402 | City of Barling
| Approximately 4,060 feet upstream of Rye Hill Road | +479
Little Vache Grasse Creek Tributary 9 | At the confluence with Little Vache Grasse Creek | +434 | City of Barling.
| Approximately 3,580 feet upstream of Unnamed Road | +478
Unnamed Stream | At the confluence with Little Vache Grasse Creek | +445 | City of Barling.
| Approximately 1,260 feet upstream of the confluence with Little Vache Grasse Creek | +448
Vache Grasse Creek | Approximately 5,200 feet downstream of Arkansas Highway 10 | +484 | City of Greenwood, Unincorporated Areas of Sebastian County.
| Approximately 1,800 feet upstream of Steward Court | +541
* National Geodetic Vertical Datum.
+ North American Vertical Datum.
# Depth in feet above ground.
‸ Mean Sea Level, rounded to the nearest 0.1 meter.
ADDRESSES
City of Barling
Maps are available for inspection at 304 Church Street, Barling, AR 72923.
City of Greenwood
Maps are available for inspection at 35 South 6th Street, Fort Smith, AR 72901.
Unincorporated Areas of Sebastian County
Maps are available for inspection at 35 South 6th Street, Fort Smith, AR 72901.
Crawford County, Missouri, and Incorporated Areas
Docket Nos.: FEMA-B-1028
Mermac River | Approximately 5,000 feet downstream of City of Steelville corporate limits | +708 | Unincorporated Areas of Crawford County.
| Approximately 150 feet upstream of Highway 19 | +719
Whittenburg Creek | Approximately 120 feet downstream of Snake Road | +725 | Unincorporated Areas of Crawford County, City of Steelville.
| Approximately 275 feet upstream of Highway 8 | +734
Yadkin Creek | At the confluence with Whittenburg Creek | +731 | Unincorporated Areas of Crawford County.
| Approximately 900 feet upstream of City of Steelville corporate limits | +790
* National Geodetic Vertical Datum.
+ North American Vertical Datum.
# Depth in feet above ground.
‸ Mean Sea Level, rounded to the nearest 0.1 meter.
ADDRESSES
City of Steelville
Maps are available for inspection at 204 3rd Street, Steelville, MO 65565.
Unincorporated Areas of Crawford County
Maps are available for inspection at 302 Main Street, Steelville, MO 65565.
Stone County, Missouri, and Incorporated Areas
Docket Nos.: FEMA-B-1028 and FEMA-B-1029
Crane Creek | Approximately 960 feet downstream of City of Crane corporate limits | +1109 | Unincorporated Areas of Stone County.
| Approximately 430 feet upstream of City of Crane corporate limits | +1128
* National Geodetic Vertical Datum.
+ North American Vertical Datum.
# Depth in feet above ground.
‸ Mean Sea Level, rounded to the nearest 0.1 meter.
ADDRESSES
Unincorporated Areas of Stone County
Maps are available for inspection at 108 4th Street, Galena, MO 65656
Bee County, Texas, and Incorporated Areas
Docket No.: FEMA-B-1032
Salt Branch | Intersection of Unnamed Road and Salt Branch | +163 | Unincorporated Areas of Bee County.
| Approximately 249 feet downstream of Emily Drive | +184
* National Geodetic Vertical Datum.
+ North American Vertical Datum.
# Depth in feet above ground.
‸ Mean Sea Level, rounded to the nearest 0.1 meter.
ADDRESSES
Unincorporated Areas of Bee County
Maps are available for inspection at the Bee County Courthouse, 105 West Corpus Christi Street, Beeville, TX 78102
Nacogdoches County, Texas, and Incorporated Areas
Docket No.: FEMA-B-1043
Bayou La Nana | Approximately 1,246 feet upstream of the confluence with Egg Nog Branch | +248 | Unincorporated Areas of Nacogdoches County.
| Approximately 523 feet downstream of Loop 224 | +255
Bayou La Nana | Approximately 921 feet upstream of Loop 224 | +317 | Unincorporated Areas of Nacogdoches County, City of Nacogdoches.
| Just upstream of Old Post Oak Road | +320
Bonita Creek | Approximately 729 feet upstream of Loop 224 | +355 | Unincorporated Areas of Nacogdoches County, City of Nacogdoches.
| Just upstream of U.S. Route 59 | +373
Egg Nog Branch | Approximately 1,246 feet upstream of the confluence with Bayou La Nana | +248 | Unincorporated Areas of Nacogdoches County, City of Nacogdoches.
| Approximately 727 feet downstream of Loop 224 | +284
Toliver Branch | At the confluence with Bayou La Nana | +317 | Unincorporated Areas of Nacogdoches County, City of Nacogdoches.
| Just upstream of Old Post Oak Road | +320
* National Geodetic Vertical Datum.
+ North American Vertical Datum.
# Depth in feet above ground.
‸ Mean Sea Level, rounded to the nearest 0.1 meter.
ADDRESSES
City of Nacogdoches
Maps are available for inspection at City Hall, 202 East Pillar Street, Nacogdoches, TX 75963.
Unincorporated Areas of Nacogdoches County
Maps are available for inspection at 101 West Main Street, Nacogdoches, TX 75961.

(Catalog of Federal Domestic Assistance No. 97.022, “Flood Insurance.”)

Dated: March 26, 2010.
Sandra K. Knight,
Deputy Federal Insurance and Mitigation Administrator, Mitigation, Department of Homeland Security, Federal Emergency Management Agency.

[FR Doc. 2010-8059 Filed 4-8-10; 8:45 am]

BILLING CODE 9110-12-P